DEPARTMENT OF COMMERCE

International Trade Administration

[A-475-818]

Certain Pasta From Italy: Notice of Partial Rescission of Antidumping Duty Administrative Review

AGENCY: Enforcement and Compliance, International Trade Administration, Department of Commerce.

SUMMARY: On September 12, 2016, the Department of Commerce (the Department) published a notice of initiation of an administrative review of the antidumping duty order on certain pasta from Italy. Based on the timely withdrawal of the requests for review of certain companies from interested parties, we are now rescinding this administrative review with respect to eight companies.

DATES: Effective February 27, 2017.

FOR FURTHER INFORMATION CONTACT: George McMahon or Joy Zhang, AD/CVD Operations, Office III, Enforcement and Compliance, International Trade Administration, U.S. Department of Commerce, 1401 Constitution Avenue NW., Washington, DC 20230; telephone: (202) 482-1167 or (202) 482-1168, respectively.

SUPPLEMENTARY INFORMATION:

Background

On July 5, 2016, the Department published a notice of opportunity to request an administrative review of the antidumping duty order on certain pasta from Italy.¹ Pursuant to requests from interested parties,² the Department published in the Federal Register the notice of initiation of this antidumping duty administrative review with respect to the following companies for the period July 1, 2015, through June 30, 2016: Delverde Industrie Alimentari S.p.A. (Delverde Alimentari), Ghigi Industria Agroalimentare in San Clemente S.r.L. (Ghigi), GR.A.M.M. S.r.l. (GR.A.M.M.), Industria Alimentare Colavita, S.p.A (Indalco), La Fabbrica Della Pasta di Gragnano S.A.S di Antonio Moccia (La Fabbrica), Liguori Pastificio dal 1820 S.p.A. (Liguori), Pastificio Andalini S.p.A. (Andalini), Pastificio Felicetti S.r.L. (Felicetti), Pastificio Labor S.r.L. (Labor), Pastificio Zaffiri S.r.l. (Zaffiri), Premiato Pastificio Afeltra S.r.l. (Afeltra), Rustichella d'Abruzzo SpA (Rustichella), Tamma Industrie Alimentari de Capitanata S.r.L. (Tamma), and Tesa SrL (Tesa).³

¹ See Antidumping or Countervailing Duty Order, Finding, or Suspended Investigation; Opportunity To Request Administrative Review, 81 FR 43584 (July 5, 2016).

² The petitioners are American Italian Pasta Company, Dakota Growers Pasta Company, and New World Pasta Company. The petitioners requested a review of Ghigi Industria Agroalimentare in San Clemente S.r.L. and Tamma Industrie Alimentari de Capitanata S.r.L. See Letter from the petitioners to the Department, “Request for 2015-2016 Administrative Reviews of the Antidumping Duty Order on Certain Pasta from ltaly,” dated July 29, 2016.

³ See Initiation of Antidumping and Countervailing Duty Administrative Reviews, 81 FR 62720 (September 12, 2016) (Initiation Notice).

On October 13, 2016, Liguori timely withdrew its request for a review.⁴ On October 29, 2016, Rustichella timely withdrew its request for review.⁵ On October 30, 2016, Felicetti timely withdrew its request for a review.⁶ On November 2, 2016, the petitioners timely withdrew their request for a review of Tamma.⁷ On November 30, 2016, Delverde Alimentari timely withdrew its request for review.⁸ On December 12, 2016, Afeltra, La Fabbrica, and Labor, timely withdrew their respective requests for an administrative review.⁹ No other party requested an administrative review of these particular companies.

⁴ See Letter from Liguori to the Department, “Certain Pasta from Italy: Withdrawal of Antidumping Duty Administrative Review Request for the Period of Review 7/1/2015-6/30/2016,” dated October 13, 2016.

⁵ See Letter from Rustichella to the Department, “Pasta from Italy: Withdrawal of Request for Administrative Review,” dated October 29, 2016.

⁶ See Letter from Felicetti to the Department, “Pasta from Italy; Withdrawal of Request for Administrative Review,” dated October 30, 2016.

⁷ See Letter from the petitioners to the Department, “2015/2016 (20th) Administrative Review of Certain Pasta from Italy—Withdrawal of Request for Administrative Review,” dated November 2, 2016.

⁸ See Letter from Delverde Alimentari to the Department, “Certain Pasta from Italy: Withdrawal of Request for Administrative Review on Behalf of Delverde Industrie Alimentari S.p.A.,” dated November 30, 2016.

⁹ See Letter from Afeltra to the Department, “Withdrawal of Request for Administrative Review: Certain Pasta from Italy” dated December 12, 2016; see also Letter from La Fabbrica, “Certain Pasta from Italy, A-475-818; Withdrawal of Request for Administrative Review by La Fabbrica della Pasta di Gragnano S.A.S.,” dated December 12, 2016; see also Letter from Labor to the Department, “Certain Pasta from Italy, A-475-818; Withdrawal of Request for Administrative Review by Labor Srl.” dated December 12, 2016.

Partial Rescission of the 2015-2016 Administrative Review

Pursuant to 19 CFR 351.213(d)(1), the Secretary will rescind an administrative review, in whole or in part, if the parties that requested a review withdraw the request within 90 days of the date of publication of the notice of initiation of the requested review. All of the aforementioned withdrawal requests were timely submitted and no other interested party requested an administrative review of these particular companies. Therefore, in accordance with 19 CFR 351.213(d)(1), and consistent with our practice,¹⁰ we are rescinding this review of the antidumping duty order on certain pasta from Italy, in part, with respect to Afeltra, Delverde Alimentari, Felicetti, Labor, La Fabbrica, Ligouri, Rustichella, and Tamma. The instant review will continue with respect to Andalini, Ghigi, GR.A.M.M., Indalco, Tesa, and Zaffiri.

¹⁰ See, e.g., Certain Lined Paper Products from India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

Assessment

The Department will instruct Customs and Border Protection (CBP) to assess antidumping duties on all appropriate entries. For the companies for which this review is rescinded, Afeltra, Delverde Alimentari, Felicetti, Labor, La Fabbrica, Ligouri, Rustichella, and Tamma, antidumping duties shall be assessed at rates equal to the cash deposit of estimated antidumping duties required at the time of entry, or withdrawal from warehouse, for consumption, during the period July 1, 2015, through June 30, 2016, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent assessment of doubled antidumping duties.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 21, 2017.
Gary Taverman,
Associate Deputy Assistant Secretary for Antidumping and Countervailing Duty Operations.

[FR Doc. 2017-03778 Filed 2-24-17; 8:45 am]

BILLING CODE 3510-DS-P